ENVIRONMENTAL PROTECTION AGENCY

40 CFR Parts 52, 62, and 70

[EPA-R07-OAR-2017-0470; FRL-9967-52-Region 7]

State of Iowa; Approval and Promulgation of the State Implementation Plan, the 111(d) Plan, and the Operating Permits Program

AGENCY: Environmental Protection Agency (EPA).

ACTION: Direct final rule.

SUMMARY: The Environmental Protection Agency (EPA) is taking direct final action to approve revisions to the Iowa State Implementation Plan (SIP), the 111(d) plan, and the Operating Permits Program. These revisions update and clarify rules and make minor revisions and corrections. Approval of these revisions will ensure consistency between the state and Federally-approved rules, and ensure Federal enforceability of the state's revised air program rules. EPA is taking direct final action because we view this as a noncontroversial action and anticipate no relevant adverse comment. We have explained our reasons for these actions in the Technical Support Document (TSD) that is included in this docket.

DATES: This direct final rule is effective November 14, 2017, without further notice, unless EPA receives adverse comment by October 16, 2017. If EPA receives adverse comment, we will publish a timely withdrawal of the direct final rule in the Federal Register informing the public that the rule will not take effect.

ADDRESSES: Submit your comments, identified by Docket ID No. EPA-R07-OAR-2017-0470, to https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Heather Hamilton, Environmental Protection Agency, Air Planning and Development Branch, 11201 Renner Boulevard, Lenexa, Kansas 66219 at 913-551-7039, or by email at hamilton.heather@epa.gov.

SUPPLEMENTARY INFORMATION: Throughout this document “we,” “us,” and “our” refer to EPA. This section provides additional information by addressing the following:

I. What is being addressed in this document?

II. What SIP revisions are being approved by EPA?

III. What 111(d) plan revisions are being approved by EPA?

IV. What operating permit plan revisions are being approved by EPA?

V. Have the requirements for approval of the SIP, 111(d) plan, and operating permit plan revisions been met?

VI. What action is EPA taking?

VII. Incorporation by Reference

VIII. Statutory and Executive Order Reviews

I. What is being addressed in this document?

EPA is taking direct final action to approve revisions to the Iowa SIP, the 111(d) plan, and the Operating Permits Program. These revisions update and clarify rules and make minor revisions and corrections. Approval of these revisions will ensure consistency between the state and Federally-approved rules, and ensure Federal enforceability of the state's revised air program rules. Chapters with revisions are as follows:

• Chapter 20—Scope of Title—Definitions

• Chapter 21—Compliance

• Chapter 22—Controlling Pollution*

• Chapter 23—Emission Standards for Contaminants

• Chapter 25—Measurement of Emissions

• Chapter 26—Prevention of Emergency Pollution Episodes

• Chapter 27—Certificate of Acceptance

• Chapter 28—Ambient Air Quality Standards

• Chapter 31—Nonattainment Areas

• Chapter 33—Special Regulations and Construction Permit Requirements for Major Stationary Sources—Prevention of Significant Deterioration (PSD) of Air Quality

* Title V Operating Permit Program rules are included in Chapter 22 starting at 22.100.

II. What SIP revisions are being approved by EPA?

EPA is approving SIP revisions submitted by the state of Iowa to update and clarify rules, and make minor revisions and corrections. EPA analyzed the SIP revisions and determined that air quality will not be impacted, and revisions are consistent with Federal regulations. Revisions to the SIP are as follows:

The title to chapter 20 is revised to “Scope of Title—Definitions,” which more accurately describes what is included in the Chapter. With the chapter title revision, the summaries of each chapter of the air quality rules are revised at 20.1. The definition of EPA reference method (20.2) is revised to adopt the most current Federal revisions to EPA methods for measuring air pollutant emissions.

Subrule 21.1(4) of the SIP is rescinded. This subrule applied to the emission inventory requirements for the Clean Air Interstate Rule which was rescinded by EPA. The rescission of this rule does not impact air quality.

With regard to chapter 22 which addresses permitting requirements for existing sources, a revision is made to 22.1(1)“b” to remove the Federal amendment date for the referenced Federal regulation, and adds language to refer to the state rule in which the Federal regulation is adopted by reference. This revision removes redundancy from the state rules. A revision is made to 22.1(1)“c”(2) to adopt the most recent changes to Federal air quality control strategies for lead.

Subrule 22.1(2) revisions update exemptions from construction permitting in the introductory paragraph to clarify that facilities applying for plantwide applicability limitations as specified in rule 33.9, are eligible to use construction permitting exemptions. The fuel-burning equipment exemption (22.1(2)“b”) is revised to add “indirect” cooling to be consistent with Federal regulations. The air compressors and vacuum pumps exemption (22.1(2)“x”) are revised to remove a misplaced comma; the production welding exemption (22.1(2)“ff”) is revised to correct an error in a technical equation, and the non-road diesel fuel engines with a brake horsepower rating of less than 1,100 at full load exemption, (22.1(2)“oo”) is updated to correct grammar and to revise the reference to Federal regulations. The revisions to exemptions to construction permitting do not impact air quality.

Revisions are being made to 22.1(3) to revise the number of copies of construction permit applications. Clarification with regard to new or modified anaerobic lagoon construction permits directs the reader to 567—chapter 65, which are regulations for animal feeding operating and are not subject to the air permitting rules in 567—chapter 22. Paragraph 22.1(3)“b” is revised to include instructions for submitting applications on forms available from the Web site.

Subrule 23.3(1) (Specific contaminants—general) is revised to clarify that facility operations subject to new source performance standards are not subject to the emission standards specified in rule 23.3.

Chapter 25—Measurement of Emissions—is revised at 25.1(9) to adopt revised Federal methods for emissions testing and monitoring, and adds language to clarify the alternative methodology for performance test (stack test) and continuous monitoring systems. This revision insures that only current Federal test methods are used to demonstrate compliance with permit conditions and that required test methods are no more stringent than Federal methods.

Revisions to chapter 26—Prevention of Air Pollution Emergency Episodes—reflect the current Federal levels and terminology for air pollution emergency episodes for ozone and particulate matter that are used in making determinations for the declaration of an emergency episode condition. A punctuation correction is being made to “Declarations.” The revisions are consistent with Federal regulations and do not impact air quality.

Chapter 27 applies to political subdivisions. Revisions are being made to 27.1(2), to correct the reference to the Iowa Administrative Code (455B.139) as it applies to emergency orders. Revisions to 27.3(4)“c” ensure the local programs variance procedures and rules are consistent with the state's, which were approved in to the SIP in 1972 and revised through 2007.

Revisions to chapter 28—State-wide standards—adopt by reference revisions to the National Ambient Air Quality Standards (NAAQS) for PM2.5. The PM2.5 standard was revised in 2012 to increase protection to public health and the environment. Iowa determined that no other changes to air quality rules are needed to implement the revised NAAQS for PM2.5.

The general conformity rule at 31.2 is rescinded and reserved. The requirement for states to include general conformity requirements in any SIP submitted for a nonattainment area was eliminated in 2005. The rescission of this rule does not impact air quality.

Chapter 33 applies to special regulations and construction permit requirements for major stationary sources—prevention of significant deterioration (PSD) of air quality. The introductory paragraph to 33.1, the definition of “subject to regulation” (33.3(1)), “exemptions” (33.3(9)), and “source impact analysis” (33.3(11)) are revised to reflect Federal revisions to the PSD program. “Subject to regulation” (33.3(1)) is also revised to remove thresholds as related to greenhouse gases. This revision is identical to the changes EPA made to Federal PSD regulations on August 19, 2015. An inaccurate table title is removed at 33.3(20), (“Conditions for permit issuance”).

Subrule 33.3(22)—Permit Rescission—is revised to allow for rescission of PSD permits that are no longer required for a source classified as a major for PSD solely because of the source's greenhouse gas emissions, or for a source emitting major levels of other pollutants that underwent a modification resulting in an increase of only greenhouse gas emissions above the levels specified for a major modification. This revision is consistent with Federal revisions to the PSD program in 40 CFR 52.21(w) published on May 7, 2015 and August 19, 2015.

III. What 111(d) plan revisions are being approved by EPA?

EPA is approving a revision to Iowa's 111(d) plan for municipal solid waste landfill emissions to correct an error in the emission guidelines to clarify that landfills must meet both the size and weight requirements indicated in 23.1(5)“a”(3)“1”.

IV. What operating permit plan revisions are being approved by EPA?

EPA is approving revisions to Iowa's operating permits program submitted by the state of Iowa to update and clarify rules, and make minor revisions and corrections.

The following definitions (22.100) are revised to update references to current Federal regulations: “Designated representative,” “EPA reference method,” and “Subject to regulation.” In addition to revising the updated reference to Federal regulations, “Existing hazardous air pollutant source,” and “High-risk pollutant” are revised to remove the Federal amendment dates and add cross-references to state rules that are adopted by reference. “Major source” is revised to add “or treated as classified” to major stationary sources in nonattainment areas.

Subrule 22.103(2)“b” which refers to insignificant activities under the operating permits program, is revised to add indirect cooling to the description of fuel-burning equipment that may be classified as an insignificant activity, and updates the references to Federal regulations for burning used oil.

Rule 22.105—Title V permit applications—is revised to update the address of the EPA Region 7 regional office, and adds that facilities that submitted a Title V application with a previously-submitted annual emissions inventory need not resubmit the emissions inventory.

Rule 22.108—Permit content—is revised to include the most recent reference to Federal regulations.

V. Have the requirements for approval of the SIP, 111(d) plan, and operating permit plan revisions been met?

The state submittal has met the public notice requirements for SIP submissions in accordance with 40 CFR 51.102. The submittal also satisfied the completeness criteria of 40 CFR part 51, appendix V. In addition, as explained previously and in more detail in the TSD which is part of this docket, these revisions meet the substantive SIP requirements of the CAA, including section 110 and implementing regulations. These revisions are also consistent with applicable EPA requirements of the 111(d) plan submission and Title V of the CAA and 40 CFR part 70.

VI. What action is EPA taking?

EPA is taking direct final action to approve revisions to the Iowa State Implementation Plan (SIP), the 111(d) plan, and the Operating Permits Program. These revisions update and clarify rules and makes minor revisions and corrections. Approval of these revisions will ensure consistency between the state and Federally-approved rules, and ensure Federal enforceability of the state's revised air program rules. EPA is taking direct final action because we view this as a noncontroversial action and anticipate no relevant adverse comment. We have explained our reasons for these actions in the TSD that is included with this docket.

However, in the “Proposed Rules” section of this Federal Register, we are publishing a separate document that will serve as the proposed rule to approve the SIP revision if adverse comments are received on this direct final rule. We will not institute a second comment period on this action. Any parties interested in commenting must do so at this time. For further information about commenting on this rule, see the ADDRESSES section of this document. If EPA receives adverse comment, we will publish a timely withdrawal in the Federal Register informing the public that this direct final rule will not take effect. We will address all public comments in any subsequent final rule based on the proposed rule.

VII. Incorporation by Reference

In this rule, EPA is finalizing regulatory text that includes incorporation by reference. In accordance with requirements of 1 CFR 51.5, EPA is finalizing the incorporation by reference of the Iowa Regulations described in the direct final amendments to 40 CFR part 52 set forth below. Therefore, these materials have been approved by EPA for inclusion in the SIP, have been incorporated by reference by EPA into that plan, are fully Federally enforceable under sections 110 and 113 of the CAA as of the effective date of the final rulemaking of EPA's approval, and will be incorporated by reference by the Director of the Federal Register in the next update to the SIP compilation.¹ EPA has made, and will continue to make, these materials generally available through https://www.regulations.gov and/or at the EPA Region 7 Office (please contact the person identified in the FOR FURTHER INFORMATION CONTACT; section of this preamble for more information).

¹ 62 FR 27968 (May 22, 1997).

VIII. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 14, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Lead, Nitrogen dioxide, Ozone, Particulate matter, Reporting and recordkeeping requirements, Sulfur oxides, Volatile organic compounds.

40 CFR Part 62

Environmental protection, Air pollution control, Administrative practice and procedure, Reporting and recordkeeping requirements.

40 CFR Part 70

Environmental protection, Administrative practice and procedure, Air pollution control, Intergovernmental relations, Operating permits, Reporting and recordkeeping requirements.

Dated: August 24, 2017.
Edward H. Chu,
Acting Regional Administrator, Region 7.

For the reasons stated in the preamble, EPA amends 40 CFR parts 52, 62, and 70 as set forth below:

PART 52—APPROVAL AND PROMULGATION OF IMPLEMENTATION PLANS

1. The authority citation for part 52 continues to read as follows:

Authority: 42 U.S.C. 7401 et seq.

Subpart—Q Iowa

2. Section 52.820(c) is amended by:

a. Revising the table heading for “Chapter 20”; and

b. Revising the table entries for “567-20.1”, “567-20.2”, “567-21.1”, “567-22.1”, “567-23.3”, “567-25.1”, “567-26.2”, “567-27.1”, “567-27.3,” “567-28.1”, “567-31.2”, “567-33.1”, and “567-33.3”.

The revisions read as follows:

§ 52.820 Identification of plan.

* * * * *

(c) * * *

EPA-Approved Iowa Regulations
Iowa citation | Title | State effective date | EPA approval date | Explanation
Iowa Department of Natural Resources
Environmental Protection Commission [567]
Chapter 20—Scope of Title—Definitions
567-20.1 | Scope of Title—Definitions | 3/22/2017 | 9/15/2017, [Insert Federal Register citation] | This rule is a non-substantive description of the Chapters contained in the Iowa rules. EPA has not approved all of the Chapters to which this rule refers.
567-20.2 | Definitions | 3/22/2017 | 9/15/2017, [Insert Federal Register citation] | The definitions for “anaerobic lagoon,” “odor,” “odorous substance,” “odorous substance source” are not SIP approved.
* * * * * * *
Chapter 21—Compliance
567-21.1 | Compliance Schedule | 3/22/17 | 9/15/2017, [Insert Federal Register citation]
* * * * * * *
Chapter 22—Controlling Pollution
567-22.1 | Stationary Sources | 3/22/17 | 9/15/2017, [Insert Federal Register citation] | In 22.1(3) the following sentence regarding electronic submission is not SIP approved. The sentence is: “Alternatively, the owner or operator may apply for a construction permit for a new or modified stationary source through the electronic submittal format specified by the department.”
* * * * * * *
Chapter 23—Emission Standards for Contaminants
* * * * * * *
567-23.3 | Specific Contaminants | 3/22/17 | 9/15/2017, [Insert Federal Register citation] | Subrule 23.3(3) “(d)” is not SIP approved.
* * * * * * *
Chapter 25—Measurement of Emissions
567-25.1 | Testing and Sampling of New and Existing Equipment | 3/22/17 | 9/15/2017, [Insert Federal Register citation]
Chapter 26—Prevention of Air Pollution Emergency Episodes
* * * * * * *
567-26.2 | Episode Criteria | 3/22/17 | 9/15/2017, [Insert Federal Register citation]
* * * * * * *
Chapter 27—Certificate of Acceptance
567-27.1 | General | 3/22/17 | 9/15/2017, [Insert Federal Register citation]
* * * * * * *
567-27.3 | Ordinance or Regulations | 3/22/17 | 9/15/2017, [Insert Federal Register citation]
* * * * * * *
Chapter 28—Ambient Air Quality Standards
567-28.1 | Statewide standards | 3/22/17 | 9/15/2017, [Insert Federal Register citation]
* * * * * * *
Chapter 31—Nonattainment Areas
* * * * * * *
567-31.2 | Rescinded | 3/22/17 | 9/15/2017, [Insert Federal Register citation] | Rescinded and reserved.
* * * * * * *
Chapter 33—Special Regulations and Construction Permit Requirements for Major Stationary Sources—Prevention of Significant Deterioration (PSD) of Air Quality
567-33.1 | Purpose | 3/22/17 | 9/15/2017, [Insert Federal Register citation]
567-33.3 | Special Construction Permit Requirements for Major Stationary Sources in Areas Designated Attainment or Unclassified (PSD) | 3/22/17 | 9/15/2017, [Insert Federal Register citation] | Provisions of the 2010 PM2.5 PSD—Increments, SILs and SMCs rule (October 20, 2010) relating to SILs and SMCs that were affected by the January 22, 2013, U.S. Court of Appeals decision are not SIP approved. Iowa's rule incorporating EPA's 2007 revision of the definition of “chemical processing plants” (the “Ethanol Rule,” (May 1, 2007) or EPA's 2008 “fugitive emissions rule,” (December 19, 2008) are not SIP-approved.
* * * * * * *

* * * * *

PART 62—APPROVAL AND PROMULGATION OF STATE PLANS FOR DESIGNATED FACILITIES AND POLLUTANTS

3. The authority citation for part 62 continues to read as follows:

Authority: 42 U.S.C. 7401 et seq.

Subpart Q—Iowa

4. Amend § 62.3913 by adding paragraph (e) to read as follows:

§ 62.3913 Identification of plan.

* * * * *

(e) Grammatical revision to the plan for the control of air emissions from municipal solid waste landfills submitted by the Iowa Department of Natural Resources, on April 13, 2017. The state effective date of the revision was March 22, 2017. The effective date of the amended plan is November 14, 2017.

PART 70—STATE OPERATING PERMIT PROGRAMS

5. The authority citation for part 70 continues to read as follows:

Authority: 42 U.S.C. 7401, et seq.

6. Amend appendix A to part 70 by adding paragraph (r) under the heading “Iowa” to read as follows:

Appendix A to Part 70—Approval Status of State and Local Operating Permits Programs

* * * * *

Iowa

* * * * *

(r) The Iowa Department of Natural Resources submitted for program approval revisions to rules 567-22.100, 567-22.103, 567-22.105, and 567-22.108. The state effective date is March 22, 2017. This revision is effective November 14, 2017.

* * * * *

[FR Doc. 2017-19347 Filed 9-14-17; 8:45 am]

BILLING CODE 6560-50-P